ENVIRONMENTAL PROTECTION AGENCY

40 CFR Part 52

[NM-46-1-7615b; FRL-7571-2]

Approval and Promulgation of Implementation Plans; New Mexico; Revision to Motor Vehicle Emission Budgets in Bernalillo County, NM Carbon Monoxide Air Quality Maintenance Plan Using MOBILE6

AGENCY: Environmental Protection Agency (EPA).

ACTION: Proposed rule.

SUMMARY: The EPA is proposing to approve the State Implementation Plan (SIP) revisions for Bernalillo County, New Mexico, which is a carbon monoxide maintenance area. This SIP revision was submitted to EPA by the Governor of New Mexico on May 15, 2003. More specifically, EPA is proposing approval of the county's revised Motor Vehicle Emissions Budget (MVEB) for carbon monoxide (CO) for 1996, 1999, 2002, 2005 and 2006. This budget was developed using EPA's latest emissions modeling program, MOBILE6. This submittal updates the maintenance plan by establishing new transportation conformity MVEBs for use by the Mid-Region Council of Governments, the area's Metropolitan Planning Organization (MPO). These budgets will continue to maintain the total on-road mobile source emissions for the area at or below the attainment level for the CO National Ambient Air Quality Standard (NAAQS).

DATES: Written comments must be received on or before November 10, 2003.

ADDRESSES: Comments on this action may submitted either by mail or electronically. Written comments should be mailed to Mr. Thomas H. Diggs, Chief, Air Planning Section (6PD-L),U.S. Environmental Protection Agency, 1445 Ross Avenue, Suite 700, Dallas, Texas 75202-2733. Comments may also be submitted electronically via email to Diggs.Thomas@epa.gov or to http://www.regulations.gov which is an alternative method for submitted electronic comments to EPA. To submit comments, please follow the detailed instructions described in the “Final Action” section of the direct final rule which is located in the Rules and Regulations section of this Federal Register.

FOR FURTHER INFORMATION CONTACT: Ms. Peggy Wade of the EPA Region 6 Air Planning Section at (214)665-7247 or Wade.Peggy@epa.gov.

SUPPLEMENTARY INFORMATION: In the Final Rules section of this Federal Register, EPA is approving the State's SIP submittal as a direct final rule without prior proposal because the Agency views this as a noncontroversial submittal and anticipates no adverse comment. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, we may adopt as final those provisions of the rule that are not the subject of an adverse comment.

For additional information, see the Direct Final rule which is located in the Rules and Regulations section of this Federal Register.

Dated: September 30, 2003.
Richard E. Greene,
Regional Administrator, Region 6.

[FR Doc. 03-25544 Filed 10-8-03; 8:45 am]

BILLING CODE 6560-50-P